DEPARTMENT OF ENERGY

10 CFR Part 430

[Docket No. EERE-2014-BT-STD-0031]

RIN 1904-AD20

Energy Conservation Program: Energy Conservation Standards for Residential Furnaces

AGENCY: Office of Energy Efficiency and Renewable Energy, Department of Energy.

ACTION: Reopening of public comment period.

SUMMARY: On September 14, 2015, the U.S. Department of Energy (DOE) published a notice of data availability (NODA) in the Federal Register regarding energy conservation standards for residential furnaces (RF ECS NODA). The comment period was scheduled to end October 14, 2015. After receiving a request for additional time to prepare and submit comments, DOE has decided to reopen the comment period for submitting comments regarding the RF ECS NODA. The comment period is reopened through November 6, 2015.

DATES: DOE will accept comments, data, and information in response to the NODA received no later than November 6, 2015.

ADDRESSES: Any comments submitted must identify the NODA for Energy Conservation Standards for Residential Furnaces, and provide docket number EERE-2014-BT-STD-0031 and/or regulatory information number (RIN) number 1904-AD20. Comments may be submitted using any of the following methods:

1. Federal eRulemaking Portal: www.regulations.gov. Follow the instructions for submitting comments.

2. Email: ResFurnaces2014STD0031@ee.doe.gov Include the docket number EERE-2014-BT-STD-0031 and/or RIN 1904-AD20 in the subject line of the message.

3. Mail: Ms. Brenda Edwards, U.S. Department of Energy, Building Technologies Program, Mailstop EE-2J, 1000 Independence Avenue SW., Washington, DC 20585-0121. If possible, please submit all items on a CD. It is not necessary to include printed copies.

4. Hand Delivery/Courier: Ms. Brenda Edwards, U.S. Department of Energy, Building Technologies Program, 950 L'Enfant Plaza SW., Suite 600, Washington, DC 20024. Telephone: (202) 586-2945. If possible, please submit all items on a CD. It is not necessary to include printed copies.

Docket: The docket, which includes Federal Register notices, public meeting attendee lists and transcripts, comments, and other supporting documents/materials, is available for review at regulations.gov. All documents in the docket are listed in the regulations.gov index. However, some documents listed in the index, such as those containing information that is exempt from public disclosure, may not be publicly available.

A link to the docket Web page can be found at: [www.regulations.gov/#!docketDetail;D=EERE-2014-BT-STD-0031]. This Web page contains a link to the docket for this notice on the regulations.gov site. The regulations.gov Web page contains instructions on how to access all documents, including public comments, in the docket.

For further information on how to submit a comment or review other public comments and the docket, contact Ms. Brenda Edwards at (202) 586-2945 or by email: Brenda.Edwards@ee.doe.gov.

FOR FURTHER INFORMATION CONTACT: John Cymbalsky, U.S. Department of Energy, Office of Energy Efficiency and Renewable Energy, Building Technologies Program, EE-5B, 1000 Independence Avenue SW., Washington, DC 20585-0121. Telephone: (202) 287-1692. Email John.Cymbalsky@ee.doe.govmailto:.

For legal issues, please contact Ms. Johanna Hariharan, U.S. Department of Energy, Office of General Counsel, GC-33, 1000 Independence Avenue SW., Washington, DC 20585-0121. Telephone: (202) 287-6307. Email: Johanna.Hariharan@hq.doe.gov.

SUPPLEMENTARY INFORMATION: On September 14, 2015, DOE published a notice of data availability (NODA) in the Federal Register regarding energy conservation standards for residential furnaces (RF ECS NODA). 80 FR 55038. The notice requested that interested parties submit written comments by October 14, 2015.

DOE received a joint request from the American Gas Association (AGA) and the American Public Gas Association (APGA) requesting additional time to prepare and submit comments (Docket No. EERE-2014-BT-STD-0031, AGA/APGA, No. 168 at p. 2). In response to this request, DOE is reopening the public comment period to allow interested parties to provide DOE with written comments and data in response to the RF ECS NODA.

DOE will consider any comments in response to the RF ECS NODA received by midnight of November 6, 2015, and deems any comments received by that time to be timely submitted.

Issued in Washington, DC, on October 15, 2015.
Kathleen B. Hogan,
Deputy Assistant Secretary for Energy Efficiency, Energy Efficiency and Renewable Energy.

[FR Doc. 2015-27002 Filed 10-22-15; 8:45 am]

BILLING CODE 6450-01-P